DEPARTMENT OF AGRICULTURE

Commodity Credit Corporation

7 CFR Parts 1484 and 1550

RIN 0551-AA26

Programs To Help Develop Foreign Markets for Agricultural Commodities (Foreign Market Development Cooperator Program)

AGENCY: Commodity Credit Corporation, USDA.

ACTION: Final rule.

SUMMARY: This rule revises the regulations governing the Foreign Market Development Cooperator (Cooperator) program to reflect that the Cooperator program will now be funded by the Commodity Credit Corporation (CCC) and operated under the authority of the CCC Charter Act.

EFFECTIVE DATE: February 25, 2000.

FOR FURTHER INFORMATION CONTACT: Kent Sisson or Denise Huttenlocker at (202) 720-4327.

SUPPLEMENTARY INFORMATION:

Executive Order 12866

This final rule is issued in conformance with Executive Order 12866. It has been determined that this final rule will not have an annual economic effect in excess of $100 million; will not cause a major increase in costs to consumers, individual industries, Federal, State, or local government agencies, or geographic regions; and will not have an adverse effect on competition, employment, investment, productivity, innovation, or the ability of U.S.-based enterprises to compete with foreign-based enterprises in domestic or foreign markets.

Executive Order 12988

This final rule has been reviewed in accordance with Executive Order 12988, Civil Justice Reform. The rule would have preemptive effect with respect to any State or local laws, regulations or policies which conflict with such provisions or which otherwise impede their full implementation; does not have retroactive effect; and does require administrative proceedings before suit may be filed.

Executive Order 12372

This program is not subject to the provisions of Executive Order 12372 which requires intergovernmental consultation with State and local officials (see the Notice related to 7 CFR part 3015, subpart V, published at 48 FR 29115).

Regulatory Flexibility Act

It has been determined that the Regulatory Flexibility Act is not applicable to this final rule because the CCC is not required by any provision of law to publish a notice of rulemaking with respect to the subject matter of this rule.

Paperwork Reduction Act

The information collection requirements for participating in the Cooperator program have been submitted for reinstatement to the Office of Management and Budget (OMB). OMB has previously assigned control number 0551-0026 to the information collection and recordkeeping requirements. This final rule does not impose new information collection requirements.

Background

The Cooperator program is designed to encourage the creation, expansion, and maintenance of foreign markets for agricultural commodities. Most recently, the Cooperator program has been operated under Title VII of the Agricultural Trade Act of 1978 and funded by annual appropriations to the Foreign Agricultural Service, USDA. Beginning with fiscal year 2000, the Cooperator program will be funded by the CCC and operated under the authority of the CCC Charter Act. This rule reflects that change by codifying the change in authority, redesignating the regulations currently in 7 CFR part 1550 as 7 CFR part 1484, and by making minor conforming changes to the regulations.

This rule is published as a final rule and is effective on the date of publication because the decision to utilize CCC authority to implement the Cooperator program to the CCC is a matter of agency management.

List of Subjects in 7 CFR Parts 1484 and 1550

Agricultural commodities, Exports, Grant programs—agriculture, Reporting and recordkeeping requirements.

Accordingly, Title 7 is amended as follows:

PART 1550—[REDESIGNATED AS PART 1484]

1. Title 7 of the Code of Federal Regulations is amended by redesignating part 1550, consisting of §§ 1550.10 through 1550.76, as part 1484—Programs To Help Develop Foreign Markets for Agricultural Commodities, consisting of §§ 1484.10 through 1484.76.

2. The authority citation for redesignated part 1484 is revised to read as follows:

Authority: 15 U.S.C. 714c(f).

3. Newly redesignated § 1484.10 is amended by adding a sentence at the end thereof to read as follows:

§ 1484.10 What is the effective date of this part?

* * * The Cooperator Program is administered by personnel of the Foreign Agricultural Service.

4. In newly redesignated § 1484.13, the following definitions are revised to read as follows:

§ 1484.13 Are there any special definitions that apply to the Cooperator program?

* * * * *

Administrator—the Vice President, CCC, who also serves as Administrator, FAS, USDA, or designee.

* * * * *

Project funds—the funds made available to a Cooperator under a project agreement, and authorized for expenditure in accordance with this part.

* * * * *

5. In newly redesignated § 1484.35, paragraph (d)(1) is revised to read as follows:

§ 1484.35 Must Cooperators follow specific contracting procedures?

* * * * *

(d) * * *

(1) Ensure that all expenditures for goods and services in excess of $25.00, which are reimbursed with project funds, are documented by a purchase order, invoice, or contract;

* * * * *

6. In newly redesignated § 1484.36, paragraph (a) introductory text is revised to read as follows:

§ 1484.36 How do Cooperators dispose of disposable property?

(a) Property purchased by the Cooperator, and for which the Cooperator is reimbursed with project funds, that is unusable, unserviceable, or no longer needed for project purposes shall be disposed of in one of the following ways. The Cooperator may: * * *

* * * * *

§§ 1484.38, 1484.73, 1484.74, 1484.75 [Amended]

7. In newly redesignated §§ 1484.38, 1484.73, 1484.74(c), and 1484.75, remove the word “FAS” and add, in its place, the words “Commodity Credit Corporation.”

Signed at Washington, DC, on February 15, 2000.
Timothy J. Galvin,
Administrator, Foreign Agricultural Service, and Vice President, Commodity Credit Corporation.

[FR Doc. 00-4168 Filed 2-24-00; 8:45 am]

BILLING CODE 3410-10-M